DEPARTMENT OF DEFENSE

GENERAL SERVICES ADMINISTRATION

NATIONAL AERONAUTICS AND SPACE ADMINISTRATION

[OMB Control No. 9000-0153; Docket 2014-0055; Sequence 11]

Federal Acquisition Regulation; Information Collection; OMB Circular A-119

AGENCY: Department of Defense (DOD), General Services Administration (GSA), and National Aeronautics and Space Administration (NASA).

ACTION: Notice of request for public comments regarding an extension to an existing OMB clearance.

SUMMARY: Under the provisions of the Paperwork Reduction Act (44 U.S.C. chapter 35), the Regulatory Secretariat Division (MVCB) will be submitting to the Office of Management and Budget (OMB) a request to review and approve an extension of a previously approved information collection requirement concerning OMB Circular A-119.

DATES: Submit comments on or before September 8, 2014.

ADDRESSES: Submit comments identified by Information Collection 9000-0153, OMB Circular A-119, by any of the following methods:

• Regulations.gov: http://www.regulations.gov.

Submit comments via the Federal eRulemaking portal by searching the OMB control number 9000-0153. Select the link “Comment Now” that corresponds with “Information Collection 9000-0153, OMB Circular A-119”. Follow the instructions provided on the screen. Please include your name, company name (if any), and “Information Collection 9000-0153, OMB Circular A-119” on your attached document.

• Fax: 202-501-4067.

• Mail: General Services Administration, Regulatory Secretariat Division (MVCB), 1800 F Street NW., Washington, DC 20405. ATTN: Ms. Hada Flowers/IC 9000-0153, OMB Circular A-119.

Instructions: Please submit comments only and cite Information Collection 9000-0153, OMB Circular A-119, in all correspondence related to this collection. All comments received will be posted without change to http://www.regulations.gov, including any personal and/or business confidential information provided.

FOR FURTHER INFORMATION CONTACT: Mr. Michael O. Jackson, Procurement Analyst, Acquisition Policy Division, GSA 202-208-4949 or email michaelo.jackson@gsa.gov.

SUPPLEMENTARY INFORMATION:

A. Purpose

On February 19, 1998, a revised OMB Circular A-119, “Federal Participation in the Development and Use of Voluntary Consensus Standards and in Conformity Assessment Activities,” was published in the Federal Register at 63 FR 8545, February 19, 1998. FAR Subparts 11.1 and 11.2 were revised and a solicitation provision was added at 52.211-7, Alternatives to Government-Unique Standards, to implement the requirements of the revised OMB circular. If an alternative standard is proposed, the offeror must furnish data and/or information regarding the alternative in sufficient detail for the Government to determine if it meets the Government's requirements. We believe the burden for FAR 52.211-7 to be negative, as it is purely a permissive means for offerors to propose reducing regulatory burden on a given solicitation. There are other places A-119 has an effect, though we believe these to be positive. One is by enabling the single process initiative. Another is the general replacement of Mil standards with commercial standards, e.g., ISO 9000. Also, A-119 is the basis for the language in FAR 53.105, which reduces the chaos in data standards development. The whole purpose of A-119 was to reduce regulatory burden by promoting the use of industry standards in lieu of federal ones.

To the extent that data on the annual frequency of the use of voluntary consensus standards under FAR 52.211-7 is not available, we believe 100 is reasonable. As an aside, FAR part 45 recognizes the use of voluntary consensus standards in the management of Government property. However, in these cases there is no Government standard per se, with the voluntary consensus standard serving as the Government standard. Consequently, when under part 45 voluntary consensus standards are used, they are not an alternative to a Government standard under FAR 52.211-7.

B. Annual Reporting Burden

Respondents: 100.

Responses per Respondent: 1.

Total Responses: 100.

Hours per Response: 1.

Total Burden Hours: 100.

C. Public Comments

Public comments are particularly invited on: Whether this collection of information is necessary for the proper performance of functions of the FAR, and whether it will have practical utility; whether our estimate of the public burden of this collection of information is accurate, and based on valid assumptions and methodology; ways to enhance the quality, utility, and clarity of the information to be collected; and ways in which we can minimize the burden of the collection of information on those who are to respond, through the use of appropriate technological collection techniques or other forms of information technology.

Obtaining Copies of Proposals: Requesters may obtain a copy of the information collection documents from the General Services Administration, Regulatory Secretariat Division (MVCB), 1800 F Street NW., Washington, DC 20405, telephone 202-501-4755. Please cite OMB Control No. 9000-0153, OMB Circular A-119, in all correspondence.

Dated: July 2, 2014.
Karlos Morgan,
Acting Director, Federal Acquisition Policy Division, Office of Government-Wide Acquisition Policy, Office of Acquisition Policy, Office of Government-Wide Policy.

[FR Doc. 2014-16078 Filed 7-8-14; 8:45 am]

BILLING CODE 6820-EP-P